DEPARTMENT OF ENERGY

Federal Energy Regulatory Commission

18 CFR Part 11

[Docket No. RM11-6-000]

Annual Update to Fee Schedule for the Use of Government Lands by Hydropower Licensees

AGENCY: Federal Energy Regulatory Commission.

ACTION: Final rule.

SUMMARY: In accordance with the Commission's regulations, the Commission, by its designee, the Executive Director, issues this document of the annual update to the fee schedule, which lists per-acre rental fees by county (or other geographic area) for use of government lands by hydropower licensees.

DATES: This rule is effective February 4, 2019 and updates Appendix A to Part 11 with the fee schedule of per-acre rental fees by county (or other geographic area) from October 1, 2018, through September 30, 2019 (Fiscal Year 2019).

FOR FURTHER INFORMATION CONTACT: Norman Richardson, Financial Management Division, Office of the Executive Director, Federal Energy Regulatory Commission, 888 First Street NE, Washington, DC 20426, (202) 502-6219, Norman.Richardson@ferc.gov.

SUPPLEMENTARY INFORMATION:

Annual Update to Fee Schedule

(Issued January 18, 2019)

Section 11.2 of the Commission's regulations provides a method for computing reasonable annual charges for recompensing the United States for the use, occupancy, and enjoyment of its lands by hydropower licensees.¹ Annual charges for the use of government lands are payable in advance, and are based on an annual schedule of per-acre rental fees published in Appendix A to Part 11 of the Commission's regulations.² This document updates the fee schedule in Appendix A to Part 11 for fiscal year 2019 (October 1, 2018, through September 30, 2019).

¹ Annual Charges for the Use of Government Lands, Order No. 774, 78 FR 5256 (January 25, 2013), FERC Stats. & Regs. ¶ 31,341 (2013).

² 18 CFR part 11 (2018).

Effective Date

This Final Rule is effective February 4, 2019. The provisions of 5 U.S.C. 804, regarding Congressional review of final rules, do not apply to this Final Rule because the rule concerns agency procedure and practice and will not substantially affect the rights or obligations of non-agency parties. This Final Rule merely updates the fee schedule published in the Code of Federal Regulations to reflect scheduled adjustments, as provided for in section 11.2 of the Commission's regulations.

List of Subjects in 18 CFR Part 11

Public lands.

By the Executive Director.
Issued: January 18, 2019.
Anton C. Porter,
Executive Director, Office of the Executive Director.

In consideration of the foregoing, the Commission amends part 11, chapter I, title 18, Code of Federal Regulations, as follows.

PART 11—[AMENDED]

1. The authority citation for part 11 continues to read as follows:

Authority: 16 U.S.C. 792-828c; 42 U.S.C. 7101-7352.

2. Appendix A to part 11 is revised to read as follows:

Appendix A to Part 11—Fee Schedule for FY 2019

State | County | Fee/acre/yr.
Alabama | Autauga | $64.31
| Baldwin | 112.02
| Barbour | 63.64
| Bibb | 59.03
| Blount | 102.24
| Bullock | 61.29
| Butler | 68.36
| Calhoun | 85.74
| Chambers | 73.25
| Cherokee | 96.22
| Chilton | 82.54
| Choctaw | 52.70
| Clarke | 57.56
| Clay | 69.62
| Cleburne | 77.26
| Coffee | 74.20
| Colbert | 79.37
| Conecuh | 56.04
| Coosa | 58.33
| Covington | 63.47
| Crenshaw | 57.10
| Cullman | 117.54
| Dale | 70.64
| Dallas | 51.65
| DeKalb | 106.67
| Elmore | 89.36
| Escambia | 63.92
| Etowah | 100.16
| Fayette | 59.77
| Franklin | 59.21
| Geneva | 60.83
| Greene | 57.13
| Hale | 58.86
| Henry | 62.90
| Houston | 73.28
| Jackson | 73.53
| Jefferson | 126.86
| Lamar | 41.58
| Lauderdale | 83.59
| Lawrence | 86.09
| Lee | 106.25
| Limestone | 114.48
| Lowndes | 48.59
| Macon | 69.17
| Madison | 104.56
| Marengo | 50.17
| Marion | 62.52
| Marshall | 106.71
| Mobile | 114.34
| Monroe | 55.38
| Montgomery | 73.85
| Morgan | 105.05
| Perry | 49.39
| Pickens | 58.19
| Pike | 64.10
| Randolph | 79.09
| Russell | 63.64
| Shelby | 118.17
| St. Clair | 108.04
| Sumter | 40.04
| Talladega | 81.87
| Tallapoosa | 67.94
| Tuscaloosa | 83.45
| Walker | 72.54
| Washington | 47.53
| Wilcox | 47.35
| Winston | 73.21
Alaska | Aleutian Islands | 1.06
| Statewide | 38.08
Arizona | Apache | 3.18
| Cochise | 23.11
| Coconino | 3.44
| Gila | 5.40
| Graham | 9.53
| Greenlee | 25.75
| La Paz | 21.20
| Maricopa | 93.40
| Mohave | 7.96
| Navajo | 4.27
| Pima | 8.60
| Pinal | 39.24
| Santa Cruz | 25.20
| Yavapai | 26.00
| Yuma | 119.10
Arkansas | Arkansas | 59.42
| Ashley | 65.07
| Baxter | 59.75
| Benton | 99.34
| Boone | 57.62
| Bradley | 78.23
| Calhoun | 55.08
| Carroll | 56.95
| Chicot | 59.70
| Clark | 41.38
| Clay | 71.62
| Cleburne | 61.32
| Cleveland | 87.25
| Columbia | 48.33
| Conway | 57.96
| Craighead | 71.85
| Crawford | 67.23
| Crittenden | 62.22
| Cross | 56.95
| Dallas | 35.84
| Desha | 62.47
| Drew | 56.45
| Faulkner | 73.44
| Franklin | 51.02
| Fulton | 35.87
| Garland | 82.60
| Grant | 50.46
| Greene | 76.55
| Hempstead | 45.86
| Hot Spring | 57.51
| Howard | 52.81
| Independence | 46.90
| Izard | 39.56
| Jackson | 56.36
| Jefferson | 64.96
| Johnson | 53.87
| Lafayette | 45.30
| Lawrence | 59.86
| Lee | 62.64
| Lincoln | 62.61
| Little River | 37.66
| Logan | 50.32
| Lonoke | 62.30
| Madison | 60.87
| Marion | 45.11
| Miller | 44.49
| Mississippi | 63.81
| Monroe | 53.84
| Montgomery | 56.14
| Nevada | 42.50
| Newton | 49.42
| Ouachita | 49.90
| Perry | 54.60
| Phillips | 58.46
| Pike | 47.77
| Poinsett | 68.74
| Polk | 59.39
| Pope | 61.49
| Prairie | 56.03
| Pulaski | 77.00
| Randolph | 45.14
| Saline | 78.82
| Scott | 49.22
| Searcy | 37.35
| Sebastian | 59.64
| Sevier | 52.30
| Sharp | 40.71
| St. Francis | 53.00
| Stone | 43.71
| Union | 56.76
| Van Buren | 55.58
| Washington | 92.09
| White | 57.60
| Woodruff | 55.89
| Yell | 50.88
California | Alameda | 46.62
| Alpine | 36.24
| Amador | 33.24
| Butte | 64.21
| Calaveras | 27.57
| Colusa | 45.90
| Contra Costa | 71.19
| Del Norte | 73.65
| El Dorado | 69.52
| Fresno | 70.02
| Glenn | 38.81
| Humboldt | 21.83
| Imperial | 59.17
| Inyo | 6.58
| Kern | 37.48
| Kings | 50.97
| Lake | 51.45
| Lassen | 16.29
| Los Angeles | 105.28
| Madera | 64.34
| Marin | 52.63
| Mariposa | 17.78
| Mendocino | 33.91
| Merced | 65.38
| Modoc | 14.55
| Mono | 23.81
| Monterey | 41.34
| Napa | 184.23
| Nevada | 91.55
| Orange | 184.67
| Placer | 90.11
| Plumas | 15.01
| Riverside | 86.30
| Sacramento | 60.29
| San Benito | 24.03
| San Bernardino | 113.70
| San Diego | 151.80
| San Francisco | 1,065.68
| San Joaquin | 85.26
| San Luis Obispo | 35.60
| San Mateo | 95.48
| Santa Barbara | 62.24
| Santa Clara | 56.72
| Santa Cruz | 104.70
| Shasta | 23.67
| Sierra | 12.71
| Siskiyou | 17.23
| Solano | 46.96
| Sonoma | 123.54
| Stanislaus | 81.43
| Sutter | 55.93
| Tehama | 25.16
| Trinity | 9.63
| Tulare | 63.67
| Tuolumne | 39.14
| Ventura | 132.00
| Yolo | 47.68
| Yuba | 48.95
Colorado | Adams | 26.76
| Alamosa | 27.15
| Arapahoe | 31.39
| Archuleta | 40.01
| Baca | 10.36
| Bent | 8.66
| Boulder | 106.47
| Broomfield | 36.51
| Chaffee | 56.33
| Cheyenne | 14.48
| Clear Creek | 51.11
| Conejos | 28.27
| Costilla | 20.47
| Crowley | 6.38
| Custer | 28.36
| Delta | 61.83
| Denver | 1,010.22
| Dolores | 26.87
| Douglas | 93.57
| Eagle | 73.38
| El Paso | 22.49
| Elbert | 20.89
| Fremont | 43.57
| Garfield | 51.74
| Gilpin | 52.77
| Grand | 42.59
| Gunnison | 52.49
| Hinsdale | 98.60
| Huerfano | 16.09
| Jackson | 19.42
| Jefferson | 102.32
| Kiowa | 12.71
| Kit Carson | 21.10
| La Plata | 34.60
| Lake | 54.33
| Larimer | 57.42
| Las Animas | 7.54
| Lincoln | 8.90
| Logan | 16.18
| Mesa | 62.73
| Mineral | 80.90
| Moffat | 13.60
| Montezuma | 20.63
| Montrose | 53.49
| Morgan | 26.57
| Otero | 12.16
| Ouray | 52.91
| Park | 24.80
| Phillips | 33.72
| Pitkin | 104.28
| Prowers | 12.81
| Pueblo | 13.67
| Rio Blanco | 24.75
| Rio Grande | 44.04
| Routt | 41.31
| Saguache | 27.69
| San Juan | 23.85
| San Miguel | 27.15
| Sedgwick | 23.68
| Summit | 61.92
| Teller | 37.38
| Washington | 18.21
| Weld | 36.86
| Yuma | 25.52
Connecticut | Fairfield | 326.76
| Hartford | 340.21
| Litchfield | 306.68
| Middlesex | 378.65
| New Haven | 337.96
| New London | 277.96
| Tolland | 267.06
| Windham | 205.21
Delaware | Kent | 223.90
| New Castle | 278.10
| Sussex | 219.80
Florida | Alachua | 106.97
| Baker | 128.83
| Bay | 103.19
| Bradford | 83.09
| Brevard | 107.59
| Broward | 455.41
| Calhoun | 42.21
| Charlotte | 100.71
| Citrus | 131.58
| Clay | 69.95
| Collier | 89.08
| Columbia | 90.15
| Dade | 505.22
| DeSoto | 93.33
| Dixie | 78.35
| Duval | 137.82
| Escambia | 96.98
| Flagler | 84.24
| Franklin | 38.60
| Gadsden | 88.04
| Gilchrist | 66.23
| Glades | 60.74
| Gulf | 83.14
| Hamilton | 57.36
| Hardee | 81.98
| Hendry | 80.63
| Hernando | 166.81
| Highlands | 58.38
| Hillsborough | 179.90
| Holmes | 56.09
| Indian River | 76.63
| Jackson | 66.92
| Jefferson | 83.71
| Lafayette | 81.95
| Lake | 149.82
| Lee | 188.49
| Leon | 109.33
| Levy | 118.69
| Liberty | 53.76
| Madison | 66.92
| Manatee | 111.09
| Marion | 185.86
| Martin | 130.79
| Monroe | 377.14
| Nassau | 95.12
| Okaloosa | 72.09
| Okeechobee | 91.27
| Orange | 166.24
| Osceola | 78.45
| Palm Beach | 140.90
| Pasco | 134.39
| Pinellas | 599.02
| Polk | 108.90
| Putnam | 109.87
| Santa Rosa | 156.45
| Sarasota | 130.29
| Seminole | 94.55
| St. Johns | 70.33
| St. Lucie | 95.66
| Sumter | 106.32
| Suwannee | 79.76
| Taylor | 75.62
| Union | 71.02
| Volusia | 121.97
| Wakulla | 69.60
| Walton | 57.16
| Washington | 57.11
Georgia | Appling | 63.06
| Atkinson | 71.88
| Bacon | 78.01
| Baker | 73.94
| Baldwin | 65.92
| Banks | 147.98
| Barrow | 147.94
| Bartow | 119.32
| Ben Hill | 68.31
| Berrien | 71.45
| Bibb | 88.01
| Bleckley | 62.69
| Brantley | 77.91
| Brooks | 88.95
| Bryan | 78.99
| Bulloch | 65.22
| Burke | 60.67
| Butts | 93.84
| Calhoun | 59.02
| Camden | 58.72
| Candler | 64.17
| Carroll | 119.46
| Catoosa | 152.69
| Charlton | 54.95
| Chatham | 139.05
| Chattahoochee | 56.03
| Chattooga | 82.93
| Cherokee | 255.51
| Clarke | 152.12
| Clay | 44.54
| Clayton | 150.10
| Clinch | 72.99
| Cobb | 329.55
| Coffee | 70.91
| Colquitt | 79.12
| Columbia | 132.25
| Cook | 74.11
| Coweta | 133.13
| Crawford | 83.06
| Crisp | 56.29
| Dade | 85.18
| Dawson | 209.62
| Decatur | 76.97
| DeKalb | 74.88
| Dodge | 59.32
| Dooly | 63.16
| Dougherty | 88.28
| Douglas | 177.54
| Early | 57.84
| Echols | 71.08
| Effingham | 74.85
| Elbert | 95.28
| Emanuel | 57.44
| Evans | 69.70
| Fannin | 175.21
| Fayette | 164.57
| Floyd | 104.98
| Forsyth | 296.15
| Franklin | 145.79
| Fulton | 182.62
| Gilmer | 165.42
| Glascock | 49.76
| Glynn | 105.65
| Gordon | 129.22
| Grady | 82.89
| Greene | 86.90
| Gwinnett | 278.38
| Habersham | 154.78
| Hall | 221.21
| Hancock | 92.22
| Haralson | 113.46
| Harris | 129.36
| Hart | 139.56
| Heard | 93.53
| Henry | 154.47
| Houston | 83.43
| Irwin | 68.48
| Jackson | 149.19
| Jasper | 93.26
| Jeff Davis | 89.46
| Jefferson | 53.80
| Jenkins | 50.60
| Johnson | 48.38
| Jones | 85.55
| Lamar | 103.36
| Lanier | 91.78
| Laurens | 55.25
| Lee | 77.51
| Liberty | 56.90
| Lincoln | 74.68
| Long | 66.33
| Lowndes | 95.28
| Lumpkin | 242.25
| Macon | 60.50
| Madison | 77.20
| Marion | 69.53
| McDuffie | 69.02
| McIntosh | 151.28
| Meriwether | 85.42
| Miller | 66.40
| Mitchell | 77.03
| Monroe | 91.85
| Montgomery | 46.53
| Morgan | 117.74
| Murray | 115.49
| Muscogee | 138.38
| Newton | 113.77
| Oconee | 194.54
| Oglethorpe | 87.24
| Paulding | 176.26
| Peach | 107.71
| Pickens | 180.87
| Pierce | 64.14
| Pike | 98.31
| Polk | 97.14
| Pulaski | 70.50
| Putnam | 102.42
| Quitman | 57.44
| Rabun | 190.63
| Randolph | 52.12
| Richmond | 71.38
| Rockdale | 188.08
| Schley | 61.21
| Screven | 57.47
| Seminole | 72.79
| Spalding | 140.84
| Stephens | 142.02
| Stewart | 52.86
| Sumter | 60.97
| Talbot | 56.13
| Taliaferro | 59.32
| Tattnall | 74.81
| Taylor | 54.54
| Telfair | 51.24
| Terrell | 63.67
| Thomas | 90.06
| Tift | 85.55
| Toombs | 63.87
| Towns | 159.25
| Treutlen | 48.32
| Troup | 107.24
| Turner | 64.21
| Twiggs | 67.37
| Union | 162.02
| Upson | 85.12
| Walker | 105.25
| Walton | 144.58
| Ware | 66.46
| Warren | 54.38
| Washington | 55.69
| Wayne | 73.97
| Webster | 47.74
| Wheeler | 40.20
| White | 184.94
| Whitfield | 130.54
| Wilcox | 65.69
| Wilkes | 74.81
| Wilkinson | 57.47
| Worth | 69.59
Hawaii | Hawaii | 173.22
| Honolulu | 437.59
| Kauai | 164.87
| Maui | 213.39
Idaho | Ada | 64.25
| Adams | 18.52
| Bannock | 22.01
| Bear Lake | 17.30
| Benewah | 19.33
| Bingham | 27.21
| Blaine | 34.79
| Boise | 17.27
| Bonner | 53.16
| Bonneville | 28.22
| Boundary | 41.64
| Butte | 18.75
| Camas | 18.06
| Canyon | 64.92
| Caribou | 17.06
| Cassia | 28.52
| Clark | 17.73
| Clearwater | 22.92
| Custer | 28.03
| Elmore | 24.91
| Franklin | 24.44
| Fremont | 27.18
| Gem | 33.62
| Gooding | 46.63
| Idaho | 16.98
| Jefferson | 31.90
| Jerome | 46.75
| Kootenai | 50.39
| Latah | 21.95
| Lemhi | 27.06
| Lewis | 17.08
| Lincoln | 31.96
| Madison | 40.34
| Minidoka | 42.22
| Nez Perce | 20.48
| Oneida | 14.46
| Owyhee | 14.94
| Payette | 36.78
| Power | 18.41
| Shoshone | 72.81
| Teton | 40.09
| Twin Falls | 37.62
| Valley | 30.10
| Washington | 12.16
Illinois | Adams | 140.78
| Alexander | 94.22
| Bond | 184.38
| Boone | 195.18
| Brown | 113.64
| Bureau | 208.96
| Calhoun | 108.33
| Carroll | 194.86
| Cass | 159.38
| Champaign | 226.88
| Christian | 215.91
| Clark | 140.00
| Clay | 135.76
| Clinton | 166.64
| Coles | 200.91
| Cook | 298.41
| Crawford | 142.42
| Cumberland | 155.03
| De Witt | 204.83
| DeKalb | 223.78
| Douglas | 216.84
| DuPage | 197.99
| Edgar | 187.16
| Edwards | 114.67
| Effingham | 165.18
| Fayette | 127.00
| Ford | 216.05
| Franklin | 105.69
| Fulton | 149.58
| Gallatin | 125.21
| Greene | 160.66
| Grundy | 217.09
| Hamilton | 103.16
| Hancock | 163.19
| Hardin | 100.78
| Henderson | 176.40
| Henry | 194.68
| Iroquois | 193.82
| Jackson | 112.21
| Jasper | 144.38
| Jefferson | 102.70
| Jersey | 168.03
| Jo Daviess | 138.36
| Johnson | 86.14
| Kane | 252.89
| Kankakee | 188.44
| Kendall | 247.44
| Knox | 195.71
| La Salle | 224.85
| Lake | 296.27
| Lawrence | 139.57
| Lee | 215.66
| Livingston | 204.83
| Logan | 204.69
| Macon | 223.21
| Macoupin | 177.19
| Madison | 181.85
| Marion | 119.73
| Marshall | 197.31
| Mason | 166.61
| Massac | 101.95
| McDonough | 200.27
| McHenry | 229.98
| McLean | 233.12
| Menard | 180.22
| Mercer | 173.06
| Monroe | 147.59
| Montgomery | 169.74
| Morgan | 190.44
| Moultrie | 219.08
| Ogle | 197.56
| Peoria | 197.21
| Perry | 116.02
| Piatt | 246.62
| Pike | 140.10
| Pope | 74.24
| Pulaski | 114.63
| Putnam | 179.36
| Randolph | 127.07
| Richland | 125.25
| Rock Island | 177.69
| Saline | 120.19
| Sangamon | 209.96
| Schuyler | 124.75
| Scott | 165.90
| Shelby | 172.06
| St. Clair | 179.93
| Stark | 211.96
| Stephenson | 193.82
| Tazewell | 211.99
| Union | 101.03
| Vermilion | 200.70
| Wabash | 151.36
| Warren | 197.24
| Washington | 147.62
| Wayne | 127.39
| White | 127.74
| Whiteside | 194.96
| Will | 223.21
| Williamson | 125.61
| Winnebago | 180.36
| Woodford | 220.86
Indiana | Adams | 165.00
| Allen | 175.83
| Bartholomew | 167.39
| Benton | 183.91
| Blackford | 120.40
| Boone | 175.76
| Brown | 113.99
| Carroll | 194.41
| Cass | 154.15
| Clark | 120.40
| Clay | 124.10
| Clinton | 190.03
| Crawford | 72.94
| Daviess | 184.51
| Dearborn | 115.95
| Decatur | 151.55
| DeKalb | 126.13
| Delaware | 150.94
| Dubois | 127.38
| Elkhart | 229.76
| Fayette | 132.36
| Floyd | 151.83
| Fountain | 136.63
| Franklin | 130.37
| Fulton | 143.08
| Gibson | 151.76
| Grant | 158.88
| Greene | 112.28
| Hamilton | 183.05
| Hancock | 162.83
| Harrison | 104.84
| Hendricks | 166.14
| Henry | 141.05
| Howard | 180.92
| Huntington | 155.29
| Jackson | 130.51
| Jasper | 174.65
| Jay | 186.97
| Jefferson | 100.82
| Jennings | 110.96
| Johnson | 173.48
| Knox | 160.80
| Kosciusko | 167.07
| LaGrange | 212.10
| Lake | 161.55
| LaPorte | 173.26
| Lawrence | 90.35
| Madison | 171.66
| Marion | 182.91
| Marshall | 148.17
| Martin | 114.99
| Miami | 144.36
| Monroe | 137.59
| Montgomery | 159.06
| Morgan | 140.19
| Newton | 161.59
| Noble | 137.66
| Ohio | 101.39
| Orange | 99.32
| Owen | 96.72
| Parke | 118.73
| Perry | 85.40
| Pike | 121.64
| Porter | 170.67
| Posey | 136.63
| Pulaski | 146.74
| Putnam | 119.54
| Randolph | 144.89
| Ripley | 116.16
| Rush | 173.41
| Scott | 102.28
| Shelby | 174.44
| Spencer | 110.22
| St. Joseph | 174.87
| Starke | 124.81
| Steuben | 127.77
| Sullivan | 118.97
| Switzerland | 100.46
| Tippecanoe | 191.70
| Tipton | 208.01
| Union | 141.12
| Vanderburgh | 120.51
| Vermillion | 135.31
| Vigo | 110.39
| Wabash | 147.17
| Warren | 167.75
| Warrick | 138.31
| Washington | 94.59
| Wayne | 147.45
| Wells | 180.28
| White | 194.73
| Whitley | 146.31
Iowa | Adair | 133.52
| Adams | 122.50
| Allamakee | 121.43
| Appanoose | 84.72
| Audubon | 190.14
| Benton | 206.01
| Black Hawk | 227.41
| Boone | 215.36
| Bremer | 220.10
| Buchanan | 209.26
| Buena Vista | 208.36
| Butler | 194.88
| Calhoun | 219.32
| Carroll | 214.71
| Cass | 155.93
| Cedar | 204.65
| Cerro Gordo | 189.24
| Cherokee | 211.82
| Chickasaw | 204.26
| Clarke | 96.39
| Clay | 210.75
| Clayton | 136.59
| Clinton | 202.69
| Crawford | 197.41
| Dallas | 191.99
| Davis | 83.97
| Decatur | 85.26
| Delaware | 205.65
| Des Moines | 159.06
| Dickinson | 201.51
| Dubuque | 173.87
| Emmet | 207.76
| Fayette | 196.31
| Floyd | 182.68
| Franklin | 189.67
| Fremont | 175.26
| Greene | 198.70
| Grundy | 229.20
| Guthrie | 165.45
| Hamilton | 231.77
| Hancock | 198.55
| Hardin | 210.75
| Harrison | 166.20
| Henry | 140.66
| Howard | 188.14
| Humboldt | 217.67
| Ida | 193.67
| Iowa | 172.73
| Jackson | 152.14
| Jasper | 177.44
| Jefferson | 131.03
| Johnson | 195.99
| Jones | 191.17
| Keokuk | 142.23
| Kossuth | 217.10
| Lee | 121.79
| Linn | 191.85
| Louisa | 163.88
| Lucas | 82.01
| Lyon | 235.30
| Madison | 139.91
| Mahaska | 160.46
| Marion | 127.35
| Marshall | 188.99
| Mills | 180.25
| Mitchell | 210.40
| Monona | 156.71
| Monroe | 90.50
| Montgomery | 160.10
| Muscatine | 179.47
| O'Brien | 243.64
| Osceola | 200.87
| Page | 143.58
| Palo Alto | 214.68
| Plymouth | 209.83
| Pocahontas | 217.89
| Polk | 201.27
| Pottawattamie | 200.69
| Poweshiek | 173.51
| Ringgold | 97.60
| Sac | 211.75
| Scott | 231.66
| Shelby | 193.27
| Sioux | 259.84
| Story | 223.67
| Tama | 185.57
| Taylor | 109.23
| Union | 98.21
| Van Buren | 99.17
| Wapello | 117.72
| Warren | 145.94
| Washington | 174.30
| Wayne | 92.25
| Webster | 209.83
| Winnebago | 192.56
| Winneshiek | 170.05
| Woodbury | 170.48
| Worth | 175.37
| Wright | 205.72
Kansas | Allen | 39.17
| Anderson | 43.70
| Atchison | 60.43
| Barber | 34.09
| Barton | 43.98
| Bourbon | 40.61
| Brown | 91.78
| Butler | 49.38
| Chase | 38.05
| Chautauqua | 32.40
| Cherokee | 52.25
| Cheyenne | 44.43
| Clark | 25.53
| Clay | 59.23
| Cloud | 55.87
| Coffey | 42.82
| Comanche | 25.85
| Cowley | 40.19
| Crawford | 46.99
| Decatur | 42.79
| Dickinson | 56.60
| Doniphan | 100.97
| Douglas | 80.06
| Edwards | 59.86
| Elk | 35.60
| Ellis | 37.38
| Ellsworth | 37.21
| Finney | 40.37
| Ford | 34.16
| Franklin | 65.13
| Geary | 54.39
| Gove | 36.09
| Graham | 37.00
| Grant | 37.38
| Gray | 37.45
| Greeley | 41.73
| Greenwood | 39.52
| Hamilton | 28.37
| Harper | 42.58
| Harvey | 72.10
| Haskell | 38.65
| Hodgeman | 30.16
| Jackson | 49.38
| Jefferson | 62.78
| Jewell | 54.15
| Johnson | 121.76
| Kearny | 36.40
| Kingman | 40.09
| Kiowa | 34.58
| Labette | 41.70
| Lane | 36.09
| Leavenworth | 90.76
| Lincoln | 41.91
| Linn | 49.38
| Logan | 33.11
| Lyon | 43.77
| Marion | 59.16
| Marshall | 75.54
| McPherson | 63.34
| Meade | 34.23
| Miami | 87.85
| Mitchell | 62.85
| Montgomery | 43.42
| Morris | 41.21
| Morton | 23.74
| Nemaha | 79.19
| Neosho | 42.01
| Ness | 29.21
| Norton | 37.17
| Osage | 45.63
| Osborne | 38.44
| Ottawa | 52.82
| Pawnee | 51.13
| Phillips | 35.11
| Pottawatomie | 53.52
| Pratt | 44.89
| Rawlins | 48.92
| Reno | 50.40
| Republic | 74.38
| Rice | 44.82
| Riley | 51.31
| Rooks | 36.82
| Rush | 36.40
| Russell | 32.05
| Saline | 55.45
| Scott | 42.58
| Sedgwick | 66.67
| Seward | 32.30
| Shawnee | 69.82
| Sheridan | 53.83
| Sherman | 47.91
| Smith | 45.52
| Stafford | 49.59
| Stanton | 31.07
| Stevens | 38.47
| Sumner | 50.29
| Thomas | 59.83
| Trego | 36.82
| Wabaunsee | 41.24
| Wallace | 35.39
| Washington | 65.48
| Wichita | 38.09
| Wilson | 40.33
| Woodson | 38.61
| Wyandotte | 134.91
Kentucky | Adair | 72.68
| Allen | 83.89
| Anderson | 88.47
| Ballard | 96.60
| Barren | 83.61
| Bath | 55.40
| Bell | 55.22
| Boone | 175.17
| Bourbon | 120.84
| Boyd | 66.22
| Boyle | 96.67
| Bracken | 59.48
| Breathitt | 40.60
| Breckinridge | 68.10
| Bullitt | 103.48
| Butler | 57.42
| Caldwell | 77.65
| Calloway | 84.25
| Campbell | 124.71
| Carlisle | 80.31
| Carroll | 74.88
| Carter | 49.90
| Casey | 57.67
| Christian | 98.05
| Clark | 93.19
| Clay | 45.21
| Clinton | 73.64
| Crittenden | 61.11
| Cumberland | 48.48
| Daviess | 110.26
| Edmonson | 67.53
| Elliott | 38.54
| Estill | 52.45
| Fayette | 258.71
| Fleming | 59.51
| Floyd | 41.81
| Franklin | 104.58
| Fulton | 99.08
| Gallatin | 85.92
| Garrard | 70.16
| Grant | 86.88
| Graves | 92.06
| Grayson | 64.45
| Green | 64.31
| Greenup | 50.25
| Hancock | 79.85
| Hardin | 99.51
| Harlan | 37.55
| Harrison | 77.51
| Hart | 62.99
| Henderson | 103.66
| Henry | 94.90
| Hickman | 98.80
| Hopkins | 82.40
| Jackson | 51.60
| Jefferson | 245.08
| Jessamine | 155.37
| Johnson | 49.68
| Kenton | 123.78
| Knott | 38.40
| Knox | 49.65
| Larue | 97.17
| Laurel | 97.91
| Lawrence | 40.21
| Lee | 54.01
| Leslie | 123.39
| Letcher | 65.65
| Lewis | 41.70
| Lincoln | 70.66
| Livingston | 60.40
| Logan | 95.07
| Lyon | 57.49
| Madison | 85.67
| Magoffin | 42.09
| Marion | 76.44
| Marshall | 86.80
| Martin | 142.91
| Mason | 73.18
| McCracken | 87.37
| McCreary | 50.82
| McLean | 106.75
| Meade | 92.09
| Menifee | 50.75
| Mercer | 95.93
| Metcalfe | 64.06
| Monroe | 66.97
| Montgomery | 77.86
| Morgan | 36.23
| Muhlenberg | 65.97
| Nelson | 95.46
| Nicholas | 61.29
| Ohio | 69.49
| Oldham | 177.37
| Owen | 65.48
| Owsley | 38.29
| Pendleton | 67.22
| Perry | 34.25
| Pike | 37.87
| Powell | 45.14
| Pulaski | 82.23
| Robertson | 51.32
| Rockcastle | 57.70
| Rowan | 60.54
| Russell | 87.44
| Scott | 129.82
| Shelby | 138.58
| Simpson | 118.18
| Spencer | 88.97
| Taylor | 79.00
| Todd | 104.76
| Trigg | 84.04
| Trimble | 89.61
| Union | 116.51
| Warren | 102.38
| Washington | 72.68
| Wayne | 64.55
| Webster | 90.67
| Whitley | 61.54
| Wolfe | 42.23
| Woodford | 231.53
Louisiana | Acadia | 59.72
| Allen | 56.56
| Ascension | 94.71
| Assumption | 82.03
| Avoyelles | 61.07
| Beauregard | 67.22
| Bienville | 64.03
| Bossier | 90.51
| Caddo | 73.28
| Calcasieu | 69.08
| Caldwell | 66.65
| Cameron | 47.34
| Catahoula | 65.34
| Claiborne | 67.76
| Concordia | 62.11
| De Soto | 72.91
| East Baton Rouge | 154.67
| East Carroll | 73.72
| East Feliciana | 80.25
| Evangeline | 57.10
| Franklin | 61.37
| Grant | 57.43
| Iberia | 84.38
| Iberville | 48.52
| Jackson | 76.17
| Jefferson | 102.39
| Jefferson Davis | 61.17
| La Salle | 69.04
| Lafayette | 128.39
| Lafourche | 57.80
| Lincoln | 89.57
| Livingston | 154.70
| Madison | 66.42
| Morehouse | 63.73
| Natchitoches | 65.34
| Orleans | 416.91
| Ouachita | 78.50
| Plaquemines | 33.98
| Pointe Coupee | 73.85
| Rapides | 68.44
| Red River | 52.59
| Richland | 61.81
| Sabine | 85.60
| St. Bernard | 44.75
| St. Charles | 58.31
| St. Helena | 90.07
| St. James | 94.75
| St. John the Baptist | 78.33
| St. Landry | 64.74
| St. Martin | 66.55
| St. Mary | 67.49
| St. Tammany | 196.90
| Tangipahoa | 110.83
| Tensas | 59.15
| Terrebonne | 60.36
| Union | 78.29
| Vermilion | 69.95
| Vernon | 85.06
| Washington | 95.42
| Webster | 93.74
| West Baton Rouge | 100.94
| West Carroll | 57.47
| West Feliciana | 71.03
| Winn | 65.07
Maine | Androscoggin | 68.92
| Aroostook | 38.38
| Cumberland | 131.93
| Franklin | 58.40
| Hancock | 90.56
| Kennebec | 77.05
| Knox | 102.09
| Lincoln | 93.79
| Oxford | 68.35
| Penobscot | 54.17
| Piscataquis | 46.10
| Sagadahoc | 101.58
| Somerset | 56.96
| Waldo | 50.14
| Washington | 42.04
| York | 130.89
Maryland | Allegany | 97.78
| Anne Arundel | 324.18
| Baltimore | 264.30
| Calvert | 211.00
| Caroline | 171.03
| Carroll | 228.01
| Cecil | 203.12
| Charles | 180.66
| Dorchester | 145.90
| Frederick | 212.64
| Garrett | 117.80
| Harford | 231.37
| Howard | 306.89
| Kent | 190.73
| Montgomery | 284.77
| Prince George's | 220.87
| Queen Anne's | 208.41
| Somerset | 153.18
| St. Mary's | 184.85
| Talbot | 185.13
| Washington | 167.46
| Wicomico | 175.93
| Worcester | 167.18
Massachusetts | Barnstable | 874.93
| Berkshire | 172.34
| Bristol | 357.84
| Dukes | 240.46
| Essex | 510.89
| Franklin | 149.25
| Hampden | 180.16
| Hampshire | 198.05
| Middlesex | 469.52
| Nantucket | 654.13
| Norfolk | 595.70
| Plymouth | 282.42
| Suffolk | 5,029.90
| Worcester | 229.12
Michigan | Alcona | 67.41
| Alger | 57.25
| Allegan | 132.48
| Alpena | 67.28
| Antrim | 99.12
| Arenac | 76.96
| Baraga | 51.10
| Barry | 110.07
| Bay | 111.11
| Benzie | 115.29
| Berrien | 154.64
| Branch | 98.29
| Calhoun | 101.67
| Cass | 109.52
| Charlevoix | 101.88
| Cheboygan | 68.66
| Chippewa | 44.87
| Clare | 78.41
| Clinton | 120.17
| Crawford | 91.48
| Delta | 53.97
| Dickinson | 61.16
| Eaton | 102.95
| Emmet | 87.43
| Genesee | 106.96
| Gladwin | 77.99
| Gogebic | 72.56
| Grand Traverse | 147.48
| Gratiot | 124.73
| Hillsdale | 95.24
| Houghton | 49.02
| Huron | 143.88
| Ingham | 112.81
| Ionia | 115.33
| Iosco | 73.91
| Iron | 55.00
| Isabella | 105.27
| Jackson | 105.72
| Kalamazoo | 128.67
| Kalkaska | 84.18
| Kent | 162.00
| Keweenaw | 69.59
| Lake | 71.84
| Lapeer | 126.46
| Leelanau | 186.17
| Lenawee | 112.22
| Livingston | 134.10
| Luce | 63.47
| Mackinac | 57.46
| Macomb | 152.74
| Manistee | 79.51
| Marquette | 56.35
| Mason | 78.96
| Mecosta | 82.62
| Menominee | 55.49
| Midland | 99.56
| Missaukee | 83.66
| Monroe | 125.91
| Montcalm | 92.27
| Montmorency | 62.85
| Muskegon | 141.88
| Newaygo | 98.39
| Oakland | 237.09
| Oceana | 89.09
| Ogemaw | 73.29
| Ontonagon | 46.84
| Osceola | 70.14
| Oscoda | 72.70
| Otsego | 69.87
| Ottawa | 178.59
| Presque Isle | 59.32
| Roscommon | 72.63
| Saginaw | 105.55
| Sanilac | 121.31
| Schoolcraft | 44.91
| Shiawassee | 98.94
| St. Clair | 103.33
| St. Joseph | 131.47
| Tuscola | 125.63
| Van Buren | 122.93
| Washtenaw | 140.91
| Wayne | 205.84
| Wexford | 78.75
Minnesota | Aitkin | 50.16
| Anoka | 171.67
| Becker | 77.30
| Beltrami | 48.34
| Benton | 97.75
| Big Stone | 111.02
| Blue Earth | 182.49
| Brown | 157.02
| Carlton | 53.29
| Carver | 164.84
| Cass | 54.36
| Chippewa | 147.06
| Chisago | 123.90
| Clay | 100.14
| Clearwater | 47.77
| Cook | 135.00
| Cottonwood | 156.34
| Crow Wing | 73.64
| Dakota | 161.50
| Dodge | 174.95
| Douglas | 87.58
| Faribault | 160.04
| Fillmore | 130.55
| Freeborn | 155.20
| Goodhue | 154.17
| Grant | 102.91
| Hennepin | 234.35
| Houston | 98.25
| Hubbard | 64.14
| Isanti | 105.97
| Itasca | 53.61
| Jackson | 173.88
| Kanabec | 65.31
| Kandiyohi | 136.78
| Kittson | 49.91
| Koochiching | 33.47
| Lac qui Parle | 124.83
| Lake | 93.49
| Lake of the Woods | 42.40
| Le Sueur | 157.87
| Lincoln | 110.35
| Lyon | 147.91
| Mahnomen | 57.91
| Marshall | 60.01
| Martin | 174.56
| McLeod | 153.25
| Meeker | 118.39
| Mille Lacs | 78.33
| Morrison | 78.94
| Mower | 170.39
| Murray | 160.61
| Nicollet | 184.66
| Nobles | 168.40
| Norman | 85.16
| Olmsted | 155.74
| Otter Tail | 71.29
| Pennington | 51.69
| Pine | 57.41
| Pipestone | 149.41
| Polk | 82.60
| Pope | 104.34
| Ramsey | 261.10
| Red Lake | 49.80
| Redwood | 180.00
| Renville | 172.32
| Rice | 163.10
| Rock | 200.06
| Roseau | 33.79
| Scott | 177.22
| Sherburne | 122.41
| Sibley | 170.57
| St. Louis | 53.50
| Stearns | 111.02
| Steele | 170.71
| Stevens | 127.14
| Swift | 145.60
| Todd | 67.27
| Traverse | 126.57
| Wabasha | 133.68
| Wadena | 50.76
| Waseca | 167.37
| Washington | 234.43
| Watonwan | 173.92
| Wilkin | 111.06
| Winona | 133.36
| Wright | 152.57
| Yellow Medicine | 130.27
Mississippi | Adams | 59.77
| Alcorn | 51.40
| Amite | 92.68
| Attala | 49.61
| Benton | 43.97
| Bolivar | 66.62
| Calhoun | 50.78
| Carroll | 51.75
| Chickasaw | 50.89
| Choctaw | 54.33
| Claiborne | 55.40
| Clarke | 64.93
| Clay | 45.14
| Coahoma | 69.48
| Copiah | 62.97
| Covington | 81.01
| DeSoto | 72.75
| Forrest | 94.09
| Franklin | 70.58
| George | 92.58
| Greene | 59.91
| Grenada | 50.34
| Hancock | 109.17
| Harrison | 170.73
| Hinds | 63.14
| Holmes | 57.77
| Humphreys | 60.84
| Issaquena | 52.81
| Itawamba | 55.29
| Jackson | 104.04
| Jasper | 55.02
| Jefferson | 58.36
| Jefferson Davis | 54.67
| Jones | 87.83
| Kemper | 47.86
| Lafayette | 61.77
| Lamar | 99.22
| Lauderdale | 65.76
| Lawrence | 74.06
| Leake | 73.75
| Lee | 52.68
| Leflore | 55.57
| Lincoln | 82.56
| Lowndes | 58.46
| Madison | 72.13
| Marion | 81.70
| Marshall | 54.33
| Monroe | 48.17
| Montgomery | 48.99
| Neshoba | 84.87
| Newton | 57.36
| Noxubee | 59.53
| Oktibbeha | 60.66
| Panola | 52.99
| Pearl River | 88.14
| Perry | 78.84
| Pike | 97.85
| Pontotoc | 50.09
| Prentiss | 43.21
| Quitman | 55.47
| Rankin | 82.35
| Scott | 69.62
| Sharkey | 63.14
| Simpson | 75.43
| Smith | 81.42
| Stone | 100.67
| Sunflower | 53.74
| Tallahatchie | 61.94
| Tate | 55.29
| Tippah | 44.83
| Tishomingo | 51.02
| Tunica | 74.40
| Union | 57.08
| Walthall | 82.42
| Warren | 51.71
| Washington | 58.56
| Wayne | 80.25
| Webster | 49.75
| Wilkinson | 61.90
| Winston | 59.84
| Yalobusha | 50.13
| Yazoo | 57.84
Missouri | Adair | 68.72
| Andrew | 99.69
| Atchison | 136.26
| Audrain | 107.12
| Barry | 71.11
| Barton | 58.99
| Bates | 63.54
| Benton | 58.57
| Bollinger | 56.43
| Boone | 102.11
| Buchanan | 96.71
| Butler | 89.22
| Caldwell | 63.75
| Callaway | 91.56
| Camden | 60.98
| Cape Girardeau | 87.78
| Carroll | 87.81
| Carter | 46.59
| Cass | 92.96
| Cedar | 51.07
| Chariton | 83.30
| Christian | 87.53
| Clark | 74.36
| Clay | 120.01
| Clinton | 96.05
| Cole | 81.61
| Cooper | 79.62
| Crawford | 58.29
| Dade | 61.44
| Dallas | 65.19
| Daviess | 78.01
| DeKalb | 78.95
| Dent | 44.91
| Douglas | 45.50
| Dunklin | 105.64
| Franklin | 104.31
| Gasconade | 68.69
| Gentry | 73.87
| Greene | 103.19
| Grundy | 64.52
| Harrison | 69.88
| Henry | 59.51
| Hickory | 54.40
| Holt | 106.45
| Howard | 71.11
| Howell | 52.75
| Iron | 45.12
| Jackson | 113.14
| Jasper | 65.50
| Jefferson | 95.49
| Johnson | 74.12
| Knox | 83.54
| Laclede | 61.65
| Lafayette | 118.39
| Lawrence | 71.81
| Lewis | 81.09
| Lincoln | 109.29
| Linn | 67.71
| Livingston | 81.72
| Macon | 69.43
| Madison | 51.56
| Maries | 54.68
| Marion | 99.79
| McDonald | 64.84
| Mercer | 62.17
| Miller | 62.24
| Mississippi | 116.36
| Moniteau | 75.59
| Monroe | 87.57
| Montgomery | 96.75
| Morgan | 74.15
| New Madrid | 124.28
| Newton | 72.23
| Nodaway | 91.11
| Oregon | 43.61
| Osage | 57.38
| Ozark | 45.50
| Pemiscot | 101.37
| Perry | 74.89
| Pettis | 76.68
| Phelps | 64.49
| Pike | 96.99
| Platte | 108.94
| Polk | 57.90
| Pulaski | 54.57
| Putnam | 57.80
| Ralls | 89.95
| Randolph | 73.70
| Ray | 76.50
| Reynolds | 40.98
| Ripley | 50.26
| Saline | 112.72
| Schuyler | 62.38
| Scotland | 82.28
| Scott | 114.26
| Shannon | 46.80
| Shelby | 99.55
| St. Louis | 115.66
| St. Charles | 118.81
| St. Clair | 46.41
| St. Francois | 70.41
| Ste. Genevieve | 64.59
| Stoddard | 123.09
| Stone | 66.38
| Sullivan | 52.05
| Taney | 54.96
| Texas | 45.99
| Vernon | 60.42
| Warren | 108.73
| Washington | 53.77
| Wayne | 42.80
| Webster | 73.21
| Worth | 63.16
| Wright | 50.37
Montana | Beaverhead | 25.00
| Big Horn | 9.89
| Blaine | 13.40
| Broadwater | 25.64
| Carbon | 26.40
| Carter | 12.05
| Cascade | 23.65
| Chouteau | 17.99
| Custer | 9.02
| Daniels | 11.57
| Dawson | 10.03
| Deer Lodge | 36.15
| Fallon | 9.84
| Fergus | 19.39
| Flathead | 111.95
| Gallatin | 59.24
| Garfield | 11.07
| Glacier | 15.30
| Golden Valley | 12.64
| Granite | 28.61
| Hill | 14.52
| Jefferson | 25.42
| Judith Basin | 20.01
| Lake | 35.81
| Lewis and Clark | 33.96
| Liberty | 13.62
| Lincoln | 84.13
| Madison | 28.08
| McCone | 10.76
| Meagher | 21.55
| Mineral | 99.71
| Missoula | 62.07
| Musselshell | 11.07
| Park | 57.22
| Petroleum | 9.84
| Phillips | 12.89
| Pondera | 18.19
| Powder River | 12.36
| Powell | 21.21
| Prairie | 12.64
| Ravalli | 108.87
| Richland | 13.40
| Roosevelt | 14.18
| Rosebud | 9.25
| Sanders | 26.62
| Sheridan | 13.28
| Silver Bow | 35.17
| Stillwater | 31.30
| Sweet Grass | 24.10
| Teton | 23.57
| Toole | 16.09
| Treasure | 11.27
| Valley | 11.13
| Wheatland | 11.49
| Wibaux | 10.48
| Yellowstone | 17.12
Nebraska | Adams | 137.22
| Antelope | 110.61
| Arthur | 10.99
| Banner | 20.02
| Blaine | 13.33
| Boone | 114.60
| Box Butte | 27.76
| Boyd | 35.75
| Brown | 18.62
| Buffalo | 97.18
| Burt | 135.63
| Butler | 128.64
| Cass | 150.62
| Cedar | 114.60
| Chase | 51.13
| Cherry | 13.81
| Cheyenne | 23.21
| Clay | 133.45
| Colfax | 137.58
| Cuming | 139.47
| Custer | 49.34
| Dakota | 124.78
| Dawes | 19.34
| Dawson | 80.77
| Deuel | 25.97
| Dixon | 107.84
| Dodge | 145.90
| Douglas | 161.67
| Dundy | 35.33
| Fillmore | 143.34
| Franklin | 77.19
| Frontier | 38.16
| Furnas | 60.88
| Gage | 90.78
| Garden | 15.89
| Garfield | 25.77
| Gosper | 82.30
| Grant | 14.37
| Greeley | 83.95
| Hall | 116.23
| Hamilton | 167.61
| Harlan | 80.15
| Hayes | 33.64
| Hitchcock | 33.54
| Holt | 54.41
| Hooker | 11.51
| Howard | 76.67
| Jefferson | 102.12
| Johnson | 66.17
| Kearney | 137.35
| Keith | 48.33
| Keya Paha | 20.15
| Kimball | 22.56
| Knox | 72.12
| Lancaster | 119.09
| Lincoln | 37.35
| Logan | 29.54
| Loup | 19.27
| Madison | 125.26
| McPherson | 11.64
| Merrick | 99.78
| Morrill | 23.99
| Nance | 88.86
| Nemaha | 105.76
| Nuckolls | 98.09
| Otoe | 111.68
| Pawnee | 67.28
| Perkins | 59.06
| Phelps | 117.11
| Pierce | 112.43
| Platte | 132.28
| Polk | 154.52
| Red Willow | 41.44
| Richardson | 99.13
| Rock | 28.02
| Saline | 125.26
| Sarpy | 154.94
| Saunders | 136.96
| Scotts Bluff | 48.56
| Seward | 130.82
| Sheridan | 18.01
| Sherman | 61.59
| Sioux | 14.89
| Stanton | 113.76
| Thayer | 107.19
| Thomas | 13.07
| Thurston | 131.28
| Valley | 57.43
| Washington | 156.63
| Wayne | 113.69
| Webster | 73.59
| Wheeler | 31.85
| York | 146.42
Nevada | Carson City | 54.97
| Churchill | 19.93
| Clark | 45.99
| Douglas | 23.63
| Elko | 4.06
| Esmeralda | 14.68
| Eureka | 5.30
| Humboldt | 8.12
| Lander | 6.09
| Lincoln | 23.82
| Lyon | 17.98
| Mineral | 3.51
| Nye | 17.53
| Pershing | 7.64
| Storey | 314.53
| Washoe | 6.67
| White Pine | 6.70
New Hampshire | Belknap | 146.31
| Carroll | 127.26
| Cheshire | 78.41
| Coos | 63.92
| Grafton | 79.65
| Hillsborough | 173.97
| Merrimack | 106.44
| Rockingham | 198.94
| Strafford | 131.35
| Sullivan | 105.47
New Jersey | Atlantic | 313.95
| Bergen | 1,074.04
| Burlington | 246.83
| Camden | 320.64
| Cape May | 293.91
| Cumberland | 204.76
| Essex | 1,617.43
| Gloucester | 303.47
| Hudson | 325.99
| Hunterdon | 417.95
| Mercer | 517.56
| Middlesex | 501.66
| Monmouth | 549.95
| Morris | 589.87
| Ocean | 393.62
| Passaic | 795.13
| Salem | 201.19
| Somerset | 522.34
| Sussex | 271.97
| Union | 3,213.07
| Warren | 260.69
New Mexico | Bernalillo | 22.54
| Catron | 8.50
| Chaves | 7.16
| Cibola | 6.21
| Colfax | 7.88
| Curry | 11.51
| De Baca | 4.92
| Dona Ana | 35.59
| Eddy | 8.90
| Grant | 7.46
| Guadalupe | 5.29
| Harding | 5.62
| Hidalgo | 4.92
| Lea | 6.74
| Lincoln | 7.03
| Los Alamos | 303.55
| Luna | 8.43
| McKinley | 6.26
| Mora | 11.03
| Otero | 8.35
| Quay | 6.66
| Rio Arriba | 14.39
| Roosevelt | 9.69
| San Juan | 6.91
| San Miguel | 7.51
| Sandoval | 10.39
| Santa Fe | 16.83
| Sierra | 5.69
| Socorro | 9.79
| Taos | 23.31
| Torrance | 7.23
| Union | 7.31
| Valencia | 18.74
New York | Albany | 85.89
| Allegany | 48.51
| Bronx | 72.07
| Broome | 72.69
| Cattaraugus | 52.42
| Cayuga | 89.11
| Chautauqua | 57.24
| Chemung | 66.73
| Chenango | 50.86
| Clinton | 56.13
| Columbia | 144.76
| Cortland | 52.84
| Delaware | 69.09
| Dutchess | 143.79
| Erie | 82.01
| Essex | 58.49
| Franklin | 46.57
| Fulton | 59.53
| Genesee | 72.97
| Greene | 103.56
| Hamilton | 50.52
| Herkimer | 53.43
| Jefferson | 45.46
| Kings | 21,966.75
| Lewis | 46.29
| Livingston | 80.31
| Madison | 56.61
| Monroe | 98.43
| Montgomery | 63.72
| Nassau | 508.15
| New York | 72.07
| Niagara | 63.54
| Oneida | 55.19
| Onondaga | 87.45
| Ontario | 89.32
| Orange | 153.49
| Orleans | 72.00
| Oswego | 56.06
| Otsego | 62.23
| Putnam | 151.55
| Queens | 142.13
| Rensselaer | 95.25
| Richmond | 4,887.05
| Rockland | 2,400.85
| Saratoga | 132.81
| Schenectady | 95.73
| Schoharie | 63.16
| Schuyler | 79.21
| Seneca | 81.63
| St. Lawrence | 39.29
| Steuben | 50.83
| Suffolk | 324.23
| Sullivan | 102.07
| Tioga | 54.54
| Tompkins | 76.43
| Ulster | 139.77
| Warren | 110.80
| Washington | 67.25
| Wayne | 68.71
| Westchester | 446.33
| Wyoming | 72.55
| Yates | 109.66
North Carolina | Alamance | 130.87
| Alexander | 165.11
| Alleghany | 133.29
| Anson | 103.39
| Ashe | 157.86
| Avery | 193.38
| Beaufort | 84.83
| Bertie | 75.01
| Bladen | 91.35
| Brunswick | 119.42
| Buncombe | 238.73
| Burke | 147.59
| Cabarrus | 203.31
| Caldwell | 153.24
| Camden | 78.86
| Carteret | 91.25
| Caswell | 79.87
| Catawba | 149.88
| Chatham | 137.70
| Cherokee | 159.49
| Chowan | 87.95
| Clay | 138.50
| Cleveland | 114.25
| Columbus | 84.17
| Craven | 85.87
| Cumberland | 86.63
| Currituck | 113.45
| Dare | 107.07
| Davidson | 170.35
| Davie | 171.46
| Duplin | 113.14
| Durham | 238.07
| Edgecombe | 73.10
| Forsyth | 230.61
| Franklin | 118.55
| Gaston | 168.27
| Gates | 96.59
| Graham | 167.26
| Granville | 114.00
| Greene | 108.25
| Guilford | 171.67
| Halifax | 65.81
| Harnett | 148.46
| Haywood | 175.79
| Henderson | 216.70
| Hertford | 66.40
| Hoke | 88.92
| Hyde | 68.28
| Iredell | 166.91
| Jackson | 268.01
| Johnston | 135.51
| Jones | 74.04
| Lee | 116.02
| Lenoir | 93.67
| Lincoln | 154.63
| Macon | 211.81
| Madison | 150.26
| Martin | 78.23
| McDowell | 160.11
| Mecklenburg | 571.51
| Mitchell | 146.30
| Montgomery | 113.76
| Moore | 147.80
| Nash | 105.82
| New Hanover | 394.99
| Northampton | 72.65
| Onslow | 105.99
| Orange | 185.75
| Pamlico | 79.87
| Pasquotank | 87.67
| Pender | 117.37
| Perquimans | 90.07
| Person | 105.40
| Pitt | 88.30
| Polk | 203.51
| Randolph | 133.02
| Richmond | 114.32
| Robeson | 81.53
| Rockingham | 112.27
| Rowan | 157.02
| Rutherford | 111.99
| Sampson | 110.33
| Scotland | 99.92
| Stanly | 142.70
| Stokes | 106.79
| Surry | 127.33
| Swain | 174.61
| Transylvania | 245.29
| Tyrrell | 70.64
| Union | 156.75
| Vance | 96.03
| Wake | 265.76
| Warren | 71.12
| Washington | 83.75
| Watauga | 207.43
| Wayne | 114.46
| Wilkes | 134.40
| Wilson | 105.96
| Yadkin | 146.20
| Yancey | 179.92
North Dakota | Adams | 22.96
| Barnes | 63.65
| Benson | 36.81
| Billings | 22.43
| Bottineau | 38.48
| Bowman | 21.43
| Burke | 23.88
| Burleigh | 40.08
| Cass | 81.59
| Cavalier | 54.18
| Dickey | 64.18
| Divide | 18.40
| Dunn | 25.99
| Eddy | 38.09
| Emmons | 33.53
| Foster | 53.18
| Golden Valley | 23.99
| Grand Forks | 59.84
| Grant | 26.27
| Griggs | 51.93
| Hettinger | 31.93
| Kidder | 26.34
| LaMoure | 61.58
| Logan | 29.12
| McHenry | 25.59
| McIntosh | 33.50
| McKenzie | 21.00
| McLean | 37.38
| Mercer | 27.12
| Morton | 29.12
| Mountrail | 25.91
| Nelson | 33.46
| Oliver | 29.08
| Pembina | 73.40
| Pierce | 29.26
| Ramsey | 39.65
| Ransom | 52.04
| Renville | 46.06
| Richland | 84.58
| Rolette | 32.00
| Sargent | 67.56
| Sheridan | 26.63
| Sioux | 25.45
| Slope | 24.28
| Stark | 38.66
| Steele | 52.68
| Stutsman | 49.73
| Towner | 36.52
| Traill | 82.62
| Walsh | 67.70
| Ward | 43.78
| Wells | 46.06
| Williams | 21.22
Ohio | Adams | 81.37
| Allen | 150.20
| Ashland | 130.13
| Ashtabula | 93.10
| Athens | 79.06
| Auglaize | 171.81
| Belmont | 95.05
| Brown | 102.41
| Butler | 166.16
| Carroll | 105.68
| Champaign | 152.34
| Clark | 146.05
| Clermont | 145.16
| Clinton | 141.07
| Columbiana | 138.19
| Coshocton | 97.51
| Crawford | 133.08
| Cuyahoga | 486.47
| Darke | 201.76
| Defiance | 127.43
| Delaware | 168.79
| Erie | 133.82
| Fairfield | 135.67
| Fayette | 155.57
| Franklin | 174.87
| Fulton | 157.95
| Gallia | 92.50
| Geauga | 201.66
| Greene | 170.92
| Guernsey | 81.62
| Hamilton | 207.02
| Hancock | 134.50
| Hardin | 138.94
| Harrison | 85.50
| Henry | 160.47
| Highland | 102.87
| Hocking | 101.91
| Holmes | 165.52
| Huron | 127.50
| Jackson | 67.16
| Jefferson | 78.32
| Knox | 135.85
| Lake | 214.63
| Lawrence | 69.40
| Licking | 139.12
| Logan | 141.53
| Lorain | 133.54
| Lucas | 164.24
| Madison | 144.77
| Mahoning | 141.21
| Marion | 135.67
| Medina | 180.87
| Meigs | 69.01
| Mercer | 223.26
| Miami | 162.11
| Monroe | 65.60
| Montgomery | 166.51
| Morgan | 68.30
| Morrow | 133.11
| Muskingum | 92.75
| Noble | 72.42
| Ottawa | 135.10
| Paulding | 137.80
| Perry | 103.05
| Pickaway | 136.24
| Pike | 90.29
| Portage | 147.68
| Preble | 149.42
| Putnam | 142.96
| Richland | 141.07
| Ross | 102.55
| Sandusky | 133.86
| Scioto | 79.95
| Seneca | 138.51
| Shelby | 169.22
| Stark | 156.74
| Summit | 240.25
| Trumbull | 113.92
| Tuscarawas | 108.91
| Union | 146.01
| Van Wert | 178.42
| Vinton | 69.01
| Warren | 203.26
| Washington | 76.08
| Wayne | 177.32
| Williams | 108.81
| Wood | 165.48
| Wyandot | 142.96
Oklahoma | Adair | 55.73
| Alfalfa | 40.03
| Atoka | 39.32
| Beaver | 18.80
| Beckham | 31.12
| Blaine | 33.51
| Bryan | 49.88
| Caddo | 37.67
| Canadian | 54.25
| Carter | 44.46
| Cherokee | 66.75
| Choctaw | 41.44
| Cimarron | 14.22
| Cleveland | 88.01
| Coal | 35.49
| Comanche | 38.90
| Cotton | 31.72
| Craig | 44.85
| Creek | 50.34
| Custer | 37.74
| Delaware | 65.30
| Dewey | 28.52
| Ellis | 22.46
| Garfield | 40.38
| Garvin | 44.50
| Grady | 45.34
| Grant | 38.44
| Greer | 24.12
| Harmon | 26.83
| Harper | 21.44
| Haskell | 42.63
| Hughes | 35.13
| Jackson | 28.20
| Jefferson | 28.48
| Johnston | 37.84
| Kay | 38.09
| Kingfisher | 38.37
| Kiowa | 27.07
| Latimer | 37.53
| Le Flore | 55.90
| Lincoln | 48.55
| Logan | 53.05
| Love | 48.72
| Major | 31.61
| Marshall | 47.10
| Mayes | 59.50
| McClain | 57.52
| McCurtain | 49.07
| McIntosh | 43.41
| Murray | 39.04
| Muskogee | 49.71
| Noble | 40.13
| Nowata | 46.68
| Okfuskee | 35.94
| Oklahoma | 87.27
| Okmulgee | 50.73
| Osage | 29.71
| Ottawa | 64.95
| Pawnee | 37.49
| Payne | 53.26
| Pittsburg | 38.34
| Pontotoc | 49.53
| Pottawatomie | 49.46
| Pushmataha | 32.04
| Roger Mills | 29.04
| Rogers | 69.39
| Seminole | 39.75
| Sequoyah | 56.40
| Stephens | 35.70
| Texas | 22.53
| Tillman | 28.27
| Tulsa | 102.37
| Wagoner | 68.37
| Washington | 47.10
| Washita | 33.76
| Woods | 30.56
| Woodward | 31.19
Oregon | Baker | 20.33
| Benton | 118.95
| Clackamas | 270.41
| Clatsop | 111.23
| Columbia | 110.13
| Coos | 64.66
| Crook | 18.22
| Curry | 68.32
| Deschutes | 140.66
| Douglas | 61.83
| Gilliam | 9.98
| Grant | 16.14
| Harney | 10.98
| Hood River | 380.97
| Jackson | 93.89
| Jefferson | 12.86
| Josephine | 201.56
| Klamath | 29.58
| Lake | 20.40
| Lane | 136.82
| Lincoln | 96.14
| Linn | 97.05
| Malheur | 23.53
| Marion | 159.26
| Morrow | 19.07
| Multnomah | 239.16
| Polk | 123.14
| Sherman | 11.96
| Tillamook | 125.49
| Umatilla | 32.73
| Union | 31.03
| Wallowa | 25.31
| Wasco | 15.09
| Washington | 187.90
| Wheeler | 12.98
| Yamhill | 183.72
Pennsylvania | Adams | 174.71
| Allegheny | 147.69
| Armstrong | 80.59
| Beaver | 134.80
| Bedford | 103.51
| Berks | 248.32
| Blair | 127.96
| Bradford | 103.82
| Bucks | 344.23
| Butler | 133.08
| Cambria | 91.87
| Cameron | 54.80
| Carbon | 183.54
| Centre | 151.83
| Chester | 366.37
| Clarion | 82.73
| Clearfield | 74.25
| Clinton | 151.76
| Columbia | 131.54
| Crawford | 79.12
| Cumberland | 218.44
| Dauphin | 127.30
| Delaware | 386.76
| Elk | 95.87
| Erie | 96.36
| Fayette | 93.10
| Forest | 67.49
| Franklin | 186.30
| Fulton | 102.00
| Greene | 84.30
| Huntingdon | 107.43
| Indiana | 78.45
| Jefferson | 72.78
| Juniata | 141.24
| Lackawanna | 137.18
| Lancaster | 351.20
| Lawrence | 115.07
| Lebanon | 296.08
| Lehigh | 233.47
| Luzerne | 125.83
| Lycoming | 119.55
| McKean | 57.81
| Mercer | 95.87
| Mifflin | 137.56
| Monroe | 220.33
| Montgomery | 393.88
| Montour | 153.68
| Northampton | 230.35
| Northumberland | 137.28
| Perry | 141.59
| Philadelphia | 1,270.88
| Pike | 51.44
| Potter | 77.05
| Schuylkill | 180.42
| Snyder | 163.14
| Somerset | 73.76
| Sullivan | 86.44
| Susquehanna | 114.33
| Tioga | 96.36
| Union | 151.12
| Venango | 86.69
| Warren | 65.77
| Washington | 127.75
| Wayne | 104.56
| Westmoreland | 133.36
| Wyoming | 112.44
| York | 211.57
Puerto Rico | All Areas | 181.50
Rhode Island | Bristol | 617.93
| Kent | 208.49
| Newport | 537.69
| Providence | 350.93
| Washington | 286.88
South Carolina | Abbeville | 76.91
| Aiken | 105.32
| Allendale | 61.29
| Anderson | 121.05
| Bamberg | 61.39
| Barnwell | 67.56
| Beaufort | 93.75
| Berkeley | 98.87
| Calhoun | 77.43
| Charleston | 172.77
| Cherokee | 84.05
| Chester | 78.16
| Chesterfield | 75.91
| Clarendon | 51.00
| Colleton | 74.76
| Darlington | 68.32
| Dillon | 72.13
| Dorchester | 95.34
| Edgefield | 81.93
| Fairfield | 77.36
| Florence | 61.39
| Georgetown | 65.23
| Greenville | 180.08
| Greenwood | 66.72
| Hampton | 66.45
| Horry | 83.60
| Jasper | 75.32
| Kershaw | 84.74
| Lancaster | 109.09
| Laurens | 93.92
| Lee | 62.77
| Lexington | 110.41
| Marion | 64.51
| Marlboro | 60.11
| McCormick | 48.99
| Newberry | 75.14
| Oconee | 147.10
| Orangeburg | 70.05
| Pickens | 154.51
| Richland | 97.32
| Saluda | 79.06
| Spartanburg | 137.57
| Sumter | 64.30
| Union | 61.04
| Williamsburg | 57.82
| York | 139.44
South Dakota | Aurora | 67.09
| Beadle | 81.37
| Bennett | 16.05
| Bon Homme | 82.96
| Brookings | 121.07
| Brown | 82.89
| Brule | 64.71
| Buffalo | 33.60
| Butte | 17.58
| Campbell | 36.23
| Charles Mix | 66.84
| Clark | 71.99
| Clay | 125.65
| Codington | 76.25
| Corson | 18.57
| Custer | 32.57
| Davison | 96.39
| Day | 54.30
| Deuel | 83.85
| Dewey | 16.27
| Douglas | 81.08
| Edmunds | 62.29
| Fall River | 14.63
| Faulk | 55.26
| Grant | 85.02
| Gregory | 34.70
| Haakon | 17.08
| Hamlin | 101.50
| Hand | 54.20
| Hanson | 106.40
| Harding | 11.93
| Hughes | 55.76
| Hutchinson | 93.41
| Hyde | 39.49
| Jackson | 22.59
| Jerauld | 55.90
| Jones | 20.67
| Kingsbury | 94.29
| Lake | 115.96
| Lawrence | 40.31
| Lincoln | 154.56
| Lyman | 28.48
| Marshall | 63.50
| McCook | 120.68
| McPherson | 43.47
| Meade | 19.14
| Mellette | 20.31
| Miner | 91.27
| Minnehaha | 146.22
| Moody | 144.72
| Pennington | 19.85
| Perkins | 15.27
| Potter | 56.79
| Roberts | 71.92
| Sanborn | 67.55
| Shannon | 13.07
| Spink | 84.56
| Stanley | 26.07
| Sully | 44.32
| Todd | 14.53
| Tripp | 31.75
| Turner | 122.63
| Union | 142.42
| Walworth | 42.09
| Yankton | 117.70
| Ziebach | 13.50
Tennessee | Anderson | 166.17
| Bedford | 108.43
| Benton | 63.60
| Bledsoe | 99.49
| Blount | 193.27
| Bradley | 154.33
| Campbell | 106.02
| Cannon | 87.89
| Carroll | 69.52
| Carter | 148.62
| Cheatham | 121.16
| Chester | 54.69
| Claiborne | 87.01
| Clay | 78.85
| Cocke | 104.07
| Coffee | 100.45
| Crockett | 80.48
| Cumberland | 108.04
| Davidson | 176.53
| Decatur | 61.01
| DeKalb | 91.05
| Dickson | 94.45
| Dyer | 71.15
| Fayette | 89.13
| Fentress | 91.01
| Franklin | 110.59
| Gibson | 87.68
| Giles | 83.35
| Grainger | 107.90
| Greene | 114.99
| Grundy | 81.26
| Hamblen | 132.87
| Hamilton | 160.43
| Hancock | 65.19
| Hardeman | 72.46
| Hardin | 71.83
| Hawkins | 99.95
| Haywood | 102.36
| Henderson | 62.64
| Henry | 78.85
| Hickman | 67.92
| Houston | 64.38
| Humphreys | 80.69
| Jackson | 82.11
| Jefferson | 153.23
| Johnson | 135.17
| Knox | 217.64
| Lake | 93.39
| Lauderdale | 88.74
| Lawrence | 75.16
| Lewis | 73.85
| Lincoln | 95.66
| Loudon | 153.87
| Macon | 97.15
| Madison | 71.51
| Marion | 83.49
| Marshall | 85.62
| Maury | 103.53
| McMinn | 116.27
| McNairy | 61.22
| Meigs | 99.88
| Monroe | 127.90
| Montgomery | 122.30
| Moore | 100.09
| Morgan | 97.26
| Obion | 90.41
| Overton | 92.22
| Perry | 56.22
| Pickett | 82.43
| Polk | 126.84
| Putnam | 122.83
| Rhea | 99.28
| Roane | 144.29
| Robertson | 138.15
| Rutherford | 138.40
| Scott | 80.13
| Sequatchie | 91.83
| Sevier | 168.16
| Shelby | 130.14
| Smith | 75.41
| Stewart | 74.59
| Sullivan | 156.81
| Sumner | 138.01
| Tipton | 84.20
| Trousdale | 109.35
| Unicoi | 156.38
| Union | 81.93
| Van Buren | 105.59
| Warren | 101.26
| Washington | 182.10
| Wayne | 57.14
| Weakley | 84.45
| White | 106.87
| Williamson | 209.30
| Wilson | 125.77
Texas | Anderson | 66.16
| Andrews | 8.86
| Angelina | 85.40
| Aransas | 46.08
| Archer | 26.61
| Armstrong | 28.43
| Atascosa | 52.98
| Austin | 110.52
| Bailey | 21.77
| Bandera | 72.85
| Bastrop | 101.08
| Baylor | 28.09
| Bee | 50.47
| Bell | 82.83
| Bexar | 115.79
| Blanco | 127.86
| Borden | 15.82
| Bosque | 65.45
| Bowie | 61.36
| Brazoria | 82.12
| Brazos | 102.00
| Brewster | 12.68
| Briscoe | 22.55
| Brooks | 28.74
| Brown | 55.34
| Burleson | 77.69
| Burnet | 89.89
| Caldwell | 89.42
| Calhoun | 47.47
| Callahan | 40.84
| Cameron | 79.45
| Camp | 70.39
| Carson | 24.88
| Cass | 55.71
| Castro | 29.68
| Chambers | 53.99
| Cherokee | 66.80
| Childress | 20.79
| Clay | 42.66
| Cochran | 18.19
| Coke | 28.26
| Coleman | 40.91
| Collin | 143.41
| Collingsworth | 22.52
| Colorado | 89.49
| Comal | 141.92
| Comanche | 64.94
| Concho | 42.80
| Cooke | 88.37
| Coryell | 65.79
| Cottle | 16.73
| Crane | 15.96
| Crockett | 17.04
| Crosby | 23.12
| Culberson | 9.26
| Dallam | 25.49
| Dallas | 124.72
| Dawson | 21.33
| Deaf Smith | 26.74
| Delta | 49.39
| Denton | 165.28
| DeWitt | 70.66
| Dickens | 19.81
| Dimmit | 42.16
| Donley | 29.14
| Duval | 35.29
| Eastland | 53.75
| Ector | 13.08
| Edwards | 33.98
| El Paso | 52.40
| Ellis | 86.04
| Erath | 86.95
| Falls | 52.67
| Fannin | 69.27
| Fayette | 114.54
| Fisher | 29.28
| Floyd | 30.97
| Foard | 19.98
| Fort Bend | 110.75
| Franklin | 77.59
| Freestone | 56.80
| Frio | 55.24
| Gaines | 26.23
| Galveston | 97.47
| Garza | 18.76
| Gillespie | 115.22
| Glasscock | 24.21
| Goliad | 55.92
| Gonzales | 87.39
| Gray | 24.00
| Grayson | 101.62
| Gregg | 104.97
| Grimes | 104.53
| Guadalupe | 97.23
| Hale | 32.05
| Hall | 20.86
| Hamilton | 67.14
| Hansford | 25.02
| Hardeman | 23.67
| Hardin | 83.64
| Harris | 144.49
| Harrison | 76.95
| Hartley | 27.18
| Haskell | 20.01
| Hays | 167.68
| Hemphill | 20.01
| Henderson | 80.56
| Hidalgo | 82.15
| Hill | 60.92
| Hockley | 28.06
| Hood | 110.48
| Hopkins | 59.87
| Houston | 60.68
| Howard | 20.52
| Hudspeth | 15.21
| Hunt | 82.66
| Hutchinson | 20.62
| Irion | 25.39
| Jack | 52.91
| Jackson | 57.17
| Jasper | 85.16
| Jeff Davis | 12.98
| Jefferson | 44.83
| Jim Hogg | 36.11
| Jim Wells | 49.43
| Johnson | 110.28
| Jones | 30.09
| Karnes | 70.25
| Kaufman | 91.92
| Kendall | 129.48
| Kenedy | 17.78
| Kent | 23.09
| Kerr | 71.23
| Kimble | 47.94
| King | 16.43
| Kinney | 32.52
| Kleberg | 50.95
| Knox | 20.89
| La Salle | 52.81
| Lamar | 58.49
| Lamb | 31.31
| Lampasas | 67.92
| Lavaca | 79.28
| Lee | 86.51
| Leon | 67.78
| Liberty | 67.75
| Limestone | 51.15
| Lipscomb | 21.84
| Live Oak | 51.83
| Llano | 73.16
| Loving | 5.38
| Lubbock | 50.10
| Lynn | 24.34
| Madison | 75.69
| Marion | 60.14
| Martin | 27.92
| Mason | 64.03
| Matagorda | 53.62
| Maverick | 31.88
| McCulloch | 50.10
| McLennan | 70.08
| McMullen | 38.00
| Medina | 70.25
| Menard | 39.45
| Midland | 38.74
| Milam | 96.86
| Mills | 60.11
| Mitchell | 21.33
| Montague | 67.61
| Montgomery | 159.71
| Moore | 25.39
| Morris | 56.80
| Motley | 19.95
| Nacogdoches | 68.19
| Navarro | 55.51
| Newton | 54.19
| Nolan | 30.39
| Nueces | 41.89
| Ochiltree | 27.08
| Oldham | 15.96
| Orange | 89.86
| Palo Pinto | 65.11
| Panola | 56.83
| Parker | 135.57
| Parmer | 28.13
| Pecos | 13.73
| Polk | 73.90
| Potter | 14.81
| Presidio | 12.47
| Rains | 68.22
| Randall | 27.15
| Reagan | 13.15
| Real | 39.96
| Red River | 44.96
| Reeves | 7.27
| Refugio | 24.68
| Roberts | 17.78
| Robertson | 64.74
| Rockwall | 157.85
| Runnels | 34.99
| Rusk | 59.13
| Sabine | 73.50
| San Augustine | 62.48
| San Jacinto | 76.67
| San Patricio | 43.21
| San Saba | 65.92
| Schleicher | 25.05
| Scurry | 22.99
| Shackelford | 29.55
| Shelby | 79.18
| Sherman | 29.14
| Smith | 102.40
| Somervell | 105.31
| Starr | 47.87
| Stephens | 37.83
| Sterling | 14.27
| Stonewall | 19.44
| Sutton | 25.52
| Swisher | 24.92
| Tarrant | 171.44
| Taylor | 30.63
| Terrell | 10.51
| Terry | 30.80
| Throckmorton | 32.42
| Titus | 69.64
| Tom Green | 30.83
| Travis | 103.79
| Trinity | 62.68
| Tyler | 79.08
| Upshur | 77.42
| Upton | 15.89
| Uvalde | 54.06
| Val Verde | 15.42
| Van Zandt | 86.31
| Victoria | 62.00
| Walker | 90.03
| Waller | 168.90
| Ward | 10.01
| Washington | 150.07
| Webb | 29.28
| Wharton | 68.73
| Wheeler | 22.21
| Wichita | 32.25
| Wilbarger | 27.05
| Willacy | 49.43
| Williamson | 105.07
| Wilson | 80.80
| Winkler | 9.80
| Wise | 103.18
| Wood | 77.15
| Yoakum | 21.87
| Young | 37.42
| Zapata | 31.61
| Zavala | 41.52
Utah | Beaver | 22.14
| Box Elder | 13.33
| Cache | 39.10
| Carbon | 13.49
| Daggett | 23.67
| Davis | 71.85
| Duchesne | 9.23
| Emery | 18.84
| Garfield | 25.20
| Grand | 6.41
| Iron | 20.90
| Juab | 13.30
| Kane | 15.63
| Millard | 15.57
| Morgan | 17.45
| Piute | 32.48
| Rich | 11.15
| Salt Lake | 52.43
| San Juan | 4.14
| Sanpete | 23.85
| Sevier | 33.45
| Summit | 25.28
| Tooele | 13.23
| Uintah | 7.01
| Utah | 59.08
| Wasatch | 42.30
| Washington | 40.52
| Wayne | 44.74
| Weber | 64.52
Vermont | Addison | 85.04
| Bennington | 116.68
| Caledonia | 88.92
| Chittenden | 120.07
| Essex | 52.04
| Franklin | 78.27
| Grand Isle | 106.34
| Lamoille | 101.84
| Orange | 86.54
| Orleans | 67.96
| Rutland | 75.93
| Washington | 112.11
| Windham | 111.69
| Windsor | 106.03
Virginia | Accomack | 103.29
| Albemarle | 246.77
| Alleghany | 87.58
| Amelia | 86.38
| Amherst | 102.76
| Appomattox | 80.25
| Arlington | 1,515.17
| Augusta | 176.31
| Bath | 117.41
| Bedford | 124.85
| Bland | 90.89
| Botetourt | 123.16
| Brunswick | 58.83
| Buchanan | 74.47
| Buckingham | 86.73
| Campbell | 84.12
| Caroline | 116.32
| Carroll | 95.99
| Charles City | 105.86
| Charlotte | 64.01
| Chesapeake City | 122.73
| Chesterfield | 150.17
| Clarke | 222.07
| Craig | 89.34
| Culpeper | 181.77
| Cumberland | 101.10
| Dickenson | 83.63
| Dinwiddie | 84.62
| Essex | 85.81
| Fairfax | 427.13
| Fauquier | 223.62
| Floyd | 102.09
| Fluvanna | 143.66
| Franklin | 99.87
| Frederick | 166.34
| Giles | 74.47
| Gloucester | 141.68
| Goochland | 153.80
| Grayson | 118.22
| Greene | 193.89
| Greensville | 57.17
| Halifax | 64.75
| Hanover | 156.87
| Henrico | 185.37
| Henry | 76.09
| Highland | 95.26
| Isle of Wight | 100.22
| James City | 247.05
| King and Queen | 87.05
| King George | 141.83
| King William | 105.22
| Lancaster | 129.04
| Lee | 62.07
| Loudoun | 337.55
| Louisa | 161.27
| Lunenburg | 67.07
| Madison | 178.00
| Mathews | 174.52
| Mecklenburg | 72.57
| Middlesex | 108.64
| Montgomery | 137.46
| Nelson | 129.11
| New Kent | 155.71
| Northampton | 121.71
| Northumberland | 84.58
| Nottoway | 87.93
| Orange | 190.12
| Page | 165.75
| Patrick | 94.02
| Pittsylvania | 68.48
| Powhatan | 161.45
| Prince Edward | 90.25
| Prince George | 118.43
| Prince William | 248.78
| Pulaski | 86.62
| Rappahannock | 237.93
| Richmond | 81.23
| Roanoke | 120.48
| Rockbridge | 121.08
| Rockingham | 198.82
| Russell | 61.19
| Scott | 58.51
| Shenandoah | 157.26
| Smyth | 78.59
| Southampton | 75.18
| Spotsylvania | 172.76
| Stafford | 258.36
| Suffolk | 127.42
| Surry | 100.93
| Sussex | 64.18
| Tazewell | 62.42
| Virginia Beach City | 149.86
| Warren | 201.15
| Washington | 110.93
| Westmoreland | 100.79
| Wise | 77.68
| Wythe | 95.43
| York | 140.66
Washington | Adams | 21.30
| Asotin | 14.73
| Benton | 47.36
| Chelan | 151.55
| Clallam | 215.62
| Clark | 218.89
| Columbia | 18.62
| Cowlitz | 150.38
| Douglas | 17.62
| Ferry | 7.35
| Franklin | 50.65
| Garfield | 16.39
| Grant | 59.29
| Grays Harbor | 36.37
| Island | 246.28
| Jefferson | 158.05
| King | 370.78
| Kitsap | 457.51
| Kittitas | 76.49
| Klickitat | 24.65
| Lewis | 108.88
| Lincoln | 19.25
| Mason | 143.50
| Okanogan | 22.94
| Pacific | 59.79
| Pend Oreille | 52.83
| Pierce | 246.05
| San Juan | 228.83
| Skagit | 131.22
| Skamania | 175.87
| Snohomish | 277.73
| Spokane | 49.20
| Stevens | 27.20
| Thurston | 150.31
| Wahkiakum | 81.18
| Walla Walla | 36.09
| Whatcom | 199.88
| Whitman | 24.18
| Yakima | 31.18
West Virginia | Barbour | 55.49
| Berkeley | 163.41
| Boone | 49.28
| Braxton | 46.40
| Brooke | 55.27
| Cabell | 85.07
| Calhoun | 43.18
| Clay | 53.14
| Doddridge | 53.43
| Fayette | 69.75
| Gilmer | 41.79
| Grant | 67.48
| Greenbrier | 80.53
| Hampshire | 102.21
| Hancock | 83.23
| Hardy | 80.53
| Harrison | 60.13
| Jackson | 62.65
| Jefferson | 195.05
| Kanawha | 61.45
| Lewis | 55.88
| Lincoln | 57.37
| Logan | 55.31
| Marion | 61.16
| Marshall | 62.40
| Mason | 59.99
| McDowell | 68.08
| Mercer | 63.08
| Mineral | 85.32
| Mingo | 40.23
| Monongalia | 87.70
| Monroe | 64.78
| Morgan | 126.87
| Nicholas | 72.44
| Ohio | 65.63
| Pendleton | 66.02
| Pleasants | 54.85
| Pocahontas | 62.47
| Preston | 70.03
| Putnam | 72.55
| Raleigh | 70.60
| Randolph | 51.51
| Ritchie | 45.37
| Roane | 48.71
| Summers | 62.37
| Taylor | 70.42
| Tucker | 86.81
| Tyler | 52.12
| Upshur | 65.85
| Wayne | 53.36
| Webster | 62.26
| Wetzel | 51.83
| Wirt | 46.62
| Wood | 66.20
| Wyoming | 58.82
Wisconsin | Adams | 108.11
| Ashland | 51.32
| Barron | 78.01
| Bayfield | 56.61
| Brown | 151.20
| Buffalo | 93.79
| Burnett | 68.53
| Calumet | 153.85
| Chippewa | 76.02
| Clark | 87.13
| Columbia | 140.54
| Crawford | 75.43
| Dane | 168.83
| Dodge | 149.25
| Door | 113.44
| Douglas | 48.43
| Dunn | 92.43
| Eau Claire | 83.69
| Florence | 86.82
| Fond du Lac | 139.39
| Forest | 57.38
| Grant | 116.02
| Green | 121.94
| Green Lake | 126.64
| Iowa | 111.24
| Iron | 64.31
| Jackson | 86.19
| Jefferson | 144.48
| Juneau | 85.81
| Kenosha | 140.40
| Kewaunee | 121.28
| La Crosse | 93.23
| Lafayette | 136.43
| Langlade | 77.17
| Lincoln | 68.88
| Manitowoc | 147.13
| Marathon | 81.28
| Marinette | 84.59
| Marquette | 95.57
| Menominee | 35.82
| Milwaukee | 263.63
| Monroe | 89.36
| Oconto | 91.21
| Oneida | 116.78
| Outagamie | 146.92
| Ozaukee | 156.29
| Pepin | 91.59
| Pierce | 110.30
| Polk | 79.47
| Portage | 91.77
| Price | 52.99
| Racine | 151.90
| Richland | 83.93
| Rock | 153.92
| Rusk | 56.75
| Sauk | 108.18
| Sawyer | 63.90
| Shawano | 100.13
| Sheboygan | 146.12
| St. Croix | 117.13
| Taylor | 61.00
| Trempealeau | 89.12
| Vernon | 92.01
| Vilas | 149.18
| Walworth | 170.96
| Washburn | 69.19
| Washington | 162.56
| Waukesha | 181.93
| Waupaca | 107.06
| Waushara | 96.40
| Winnebago | 117.17
| Wood | 87.73
Wyoming | Albany | 10.02
| Big Horn | 27.22
| Campbell | 10.31
| Carbon | 10.02
| Converse | 6.73
| Crook | 15.81
| Fremont | 15.50
| Goshen | 13.85
| Hot Springs | 12.45
| Johnson | 10.82
| Laramie | 12.81
| Lincoln | 32.07
| Natrona | 11.11
| Niobrara | 9.56
| Park | 24.97
| Platte | 12.81
| Sheridan | 14.68
| Sublette | 23.97
| Sweetwater | 3.61
| Teton | 56.69
| Uinta | 13.10
| Washakie | 15.81
| Weston | 8.33

[FR Doc. 2019-00700 Filed 2-1-19; 8:45 am]

BILLING CODE 6717-01-P